DEPARTMENT OF STATE

[Public Notice: 12056]

Review of the Designations as a Foreign Terrorist Organizations of Islamic Jihad Union and Islamic Movement of Uzbekistan (and Other Aliases)

Based on a review of the Administrative Records assembled pursuant to Section 219(a)(4)(C) of the Immigration and Nationality Act, amended (8 U.S.C. 1189(a)(4)(C))(“INA”), and in consultation with the Attorney General and the Secretary of the Treasury, I conclude that the circumstances that were the bases for the designations of the aforementioned organizations as a Foreign Terrorist Organizations have not changed in such a manner as to warrant revocation of the designations and that the national security of the United States does not warrant a revocation of the designations.

Therefore, I hereby determine that the designations of the aforementioned organizations as Foreign Terrorist Organizations, pursuant to section 219 of the INA (8 U.S.C. 1189), shall be maintained.

This determination shall be published in the Federal Register.

Dated: April 11, 2023.
Antony J. Blinken,
Secretary of State.

[FR Doc. 2023-08613 Filed 4-21-23; 8:45 am]

BILLING CODE 4710-AD-P